DEPARTMENT OF AGRICULTURE

Forest Service

Myrtle Creek HFRA, Healthy Forest Restoration Act Project, Bonners Ferry Ranger District, Idaho Panhandle National Forests; Boundary County, ID

AGENCY: Forest Service, USDA.

ACTION: Notice of Intent to Prepare an Environmental Impact Statement.

SUMMARY: The Bonners Ferry Ranger District of the Idaho Panhandle National Forest is proposing fuels reduction treatments in the Myrtle Creek and Snow Creek watersheds, identified as the Myrtle Creek HFRA project area. These watersheds are located nine miles west of Bonners Ferry, Idaho.

The USDA Forest Service will prepare an Environmental Impact Statement (EIS) to disclose the potential environmental effects of implementing fuels reduction treatments on National Forest System lands within these drainages, which include portions of the Selkirk and Kootenai Peak Inventoried Roadless Areas.

DATES: Comments, suggestions, or requests to be placed on the project mailing list, should be received on or before July 5, 2005. The draft environmental impact statement is expected to be filed with the Environmental Protection Agency (EPA) and available for public review in July, 2005.

ADDRESSES: Submit written comments and suggestions on the proposal or requests to be placed on the project mailing list to District Ranger Mike Herrin, Bonners Ferry Ranger District, 6286 Main St., Bonners Ferry, Idaho 83805; comments may also be submitted electronically to e-mail address: comments-northern-idpanhandle-bonners-ferry@fs.fed.us in one of the following formats: MSWord, Word Perfect or rtf.

FOR FURTHER INFORMATION CONTACT: Doug Nishek, Myrtle Creek HFRA Project Team Leader, Bonners Ferry Ranger District, at the above address, by phone at (208) 267-5561, or e-mail address: dnishek@fs.fed.us.

SUPPLEMENTARY INFORMATION: The project area encompasses Myrtle Creek (about 17,000 acres) and the lower section of Snow Creek drainage (about 3,200 acres) within the Selkirk Mountains of northern Idaho. In September 2003 a wildfire burned approximately 3,450 acres in the lower portion of the Myrtle Creek drainage—the municipal watershed and primary source of drinking water for the City of Bonners Ferry. The fire burned across the intake diversion structure for the City's water system, and caused some short-term effects to the water quality. It also heightened the community's awareness of potential risks if another catastrophic fire burned within the watershed.

The City of Bonners Ferry, Boundary County Commissioners and Kootenai Tribe of Idaho have asked the Forest Service to evaluate the current and future conditions of the watershed. Their overall goal for the area is continuing use of Myrtle Creek as a source of high quality municipal water. They are concerned about the following: (1) Maintaining a continuous supply of potable water from Myrtle Creek for the City of Bonners Ferry and its customers. (2) Reducing the risk of catastrophic fire in the Myrtle Creek watershed, while maintaining and restoring habitat for fish and wildlife species.

Under the auspices of the Kootenai Valley Resource Initiative (KVRI), the Myrtle Creek working group has been providing a forum to foster discussions between local government agencies, the Kootenai Tribe, interested members of the public and Forest Service personnel. The purpose of this KVRI subcommittee has been to look at community goals for Myrtle Creek, develop an overarching goal for the watershed and identify issues. KVRI publishes advance notice of working group meetings, which are open to all members of the public, in the local newspaper (Bonners Ferry Herald).

As a primary land management agency within the Myrtle Creek watershed and adjacent areas, the Forest Service was asked to design treatments that will foster long-term reduction of risks from catastrophic wildfire within the municipal watershed. The Forest Service developed a three-part purpose and need for the Myrtle Creek project: (1) Maintain Myrtle Creek watershed as a source of high quality drinking water for the City of Bonners Ferry; (2) Reduce hazardous fuels in the Myrtle Creek watershed and adjacent forests; (3) Trend vegetation in Myrtle Creek watershed and adjacent forest towards conditions that would be less susceptible to catastrophic fire, while maintaining and restoring habitat for fish and wildlife species.

The purpose and need are consistent with the Land and Resource Management Plan for the Idaho Panhandle National Forests (Forest Plan). Findings of the Interior Columbia Basin Ecosystem Management Project and the Kootenai River Geographic Assessment provide documentation of the currently dense, insect- and disease-prone state of the dry-site ecosystems and fire risks across the Idaho Panhandle National Forests and in the Kootenai River basin, and the marked changes these ecosystems have undergone over the past century. Site specific information indicates these same conditions are present in the vegetation in the Myrtle Creek and Snow Creek watersheds, tributaries to the Kootenai River.

The Forest Service has presented a proposed action to the Myrtle Creek working group. The proposal is to treat approximately 2,200 acres of National Forest Systems lands using a variety of silvicultural tools, that could include commercial thinning, sanitation salvage, group selection, irregular shelterwood, or seed tree harvests; utilizing a mixture of ground-based or helicopter harvesting. The fuels created by the vegetative treatments would be take care of by either removing the fuel during harvest operations, or prescribed burning or mechanical piling following harvest.

The Boundary County Idaho Wildland/Urban Interface Fire Mitigation Plan, August 2003, as amended in February 2004, identified the wildland/urban interface as including, “watersheds where citizen groups have organized for joint collection of water for domestic uses.” It further stated, “Boundary County is extremely dependent on surface waters for domestic purposes. This dependency includes residents for the City of Bonners Ferry, * * * Protection of water sources and water quality is a high priority.” In accordance with the Healthy Forest Restoration Act (HFRA), the Forest Service will analyze the proposed action and evaluate the effects of failing to implement the project. Because the proposed action would implement recommendations in the County Fire Mitigation Plan regarding the general location and basic method of treatments, the agency is not required to develop alternatives to the proposed action.

The Forest Service issued a scoping notice in February, 2005. Comments provided by the public and other agencies have been used along the discussions with the Myrtle Creek working group to develop strategies for management of natural resources in the project area and during the environmental analysis for this EIS and will be a part of the public record. The following preliminary issues have been identified: The quality of water in Myrtle Creek, the municipal watershed for Bonners Ferry, Idaho; the risk of catastrophic fire in the Myrtle Creek watershed and adjacent lands; forest composition and structure, including old growth and snags; soils and soil productivity; potential effects to wildlife habitat; construction of new roads; potential effects to inventoried roadless areas; fisheries; future monitoring of the project area; and cumulative effects. The Forest Service is seeking information, comments, and assistance from federal, state and local agencies and other individuals or organizations that may be interested in or affected by the proposed actions.

The Draft Environmental Impact Statement is expected to be filed with the Environmental Protection Agency (EPA) and available for public review in July 2005. At that time, the EPA will publish a Notice of Availability of the Draft Environmental Impact Statement in the Federal Register. The comment period on the Draft Environmental Impact Statement will close 45 days after the date the EPA publishes the Notice of Availability in the Federal Register. A Final Environmental Impact Statement will be published after all comments are reviewed and responded to.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statements may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningful consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental quality Regulations for implementing the procedural provisions of the National Environmental Policy Act at 40 CFR 1503.3 in addressing these points.

It is important to note that Section 105(a) of the HFRA replaces the Forest Service's administrative appeals process with an objection process that occurs before the decision approving fuel-reduction projects authorized under the act (Volume 69 Federal Register, page 1529, January 9, 2004). Participation in the predecisional review process is limited to individuals and organizations who have submitted specific written comments related to the proposed authorized hazardous-fuel-reduction project during the opportunity for public comment provided when an EIS is being prepared for the project (Section 105(a)(3), 36 CFR 218.6). Written objections, including any attachments, must be filed with the reviewing officer within 30 days after the publication date of the legal notice of the Final EIS in the newspaper of record (Section 218.4(b)). It is the responsibility of objectors to ensure that their objection is received in a timely manner. The Responsible Official may not issue a record of decision concerning an authorized project until the reviewing officer has responded to all pending objections.

Comments received in response to this solicitation, including names and addresses of those who comment, will be considered part of the public record on this proposed action and will be available for public inspection. Comments submitted anonymously will be accepted and considered; however, those who submit anonymous comments may not have standing to file an objection under Section 105(a) of the HFRA. Additionally, pursuant to 7 CFR 1.27(d), any person may request the agency to withhold a comment from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the request and notify the requester that the comments may be resubmitted with or without name and address within a specified number of days.

I am the responsible official for this environmental analysis. My address is Idaho Panhandle National Forests, 3815 Schreiber Way, Coeur d'Alene, ID 83814.

Dated: May 24, 2005.
Ranotta K. McNair,
Forest Supervisor.

[FR Doc. 05-10717 Filed 5-27-05; 8:45 am]

BILLING CODE 3410-11-M